DEPARTMENT OF STATE

[Public Notice: 12135]

Board of Visitors of the Foreign Service Institute

ACTION: Notice of intent to establish an advisory committee.

The Secretary of State announces an intent to establish the Board of Visitors of the Foreign Service Institute (“the Board”), pursuant to section 9205(e) of the National Defense Authorization Act for FY 2023 (NDAA), and consistent with the Federal Advisory Committee Act (5 U.S.C. 1001 et seq).

Nature and Purpose: The Board's duties include providing the Secretary with independent advice and recommendations regarding organizational management, strategic planning, resource management, curriculum development, and other matters of interest to the Foreign Service Institute, including regular observations about how well the Department is integrating training and professional development into the work of the Bureau for Global Talent Management, Department of State.

Other information: The Board will meet no fewer than two times per year and at such other times and places as are required to fulfill the objectives of the Board. The Department of State affirms that the advisory committee is necessary and in the public interest.

FOR FURTHER INFORMATION CONTACT: Laura Miller, Chief of Staff, Office of the Director, Foreign Service Institute, 771-205-2033, MillerLE@state.gov.

(Authority: 5 U.S.C. 1009, Pub. L. 117-263, and 22 U.S.C. 2651a.)

Laura Miller,
Chief of Staff, Foreign Service Institute, Department of State.

[FR Doc. 2023-16308 Filed 7-31-23; 8:45 am]

BILLING CODE 4710-34-P